DEPARTMENT OF THE INTERIOR

National Park Service

Whiskeytown-Shasta-Trinity National Recreation Area, Whiskeytown Unit, Shasta County, CA Notice of Intent To Prepare an Environmental Impact Statement for Fire Management Plan

SUMMARY: Notice is hereby given, in accord with provisions of the National Environmental Policy Act (42 U.S.C. 4321 et seq.), that public scoping has been initiated for a conservation planning and environmental impact analysis effort intended to update the Fire Management Plan (FMP) for the Whiskeytown National Recreation Area. The purpose of the scoping process is to elicit early public comment regarding current issues and concerns, a suitable range of alternatives, the nature and extent of potential environmental impacts, appropriate mitigating measures, and other matters which should to be addressed in the draft Environmental Impact Statement (EIS).

Background: The Whiskeytown-Shasta-Trinity National Recreation Area was created by Congress in 1965. The Whiskeytown Unit is administered as a unit of the National Park Service (NPS), with the Shasta and Trinity units of the National Recreation Area administered by the USDA Forest Service. Research has shown that fire is a significant natural process across a large portion of the 42,500 acres within the authorized boundaries of the park. Following several decades of total fire suppression, a fire management program was begun in the 1970s and has continued to the present time. Three forms of wildland fire management have been used to achieve natural and cultural resource management and hazard fuel reduction goals; aggressive suppression of unwanted wildfires; prescribed burning; and mechanical fuel reduction.

The last revision of the FMP was based upon completion of an Environmental Assessment process, which culminated in a Finding Of No Significant Impact approval of the program in 1993. However, since that time a broad range of new issues, improved information and technology, and unforeseeable limitations have emerged which have the potential to affect the future direction of the fire management program within the park. Some of these issues include but are not limited to: a continued decline in ecosystem health due to fire suppression; increased hazardous fuels buildup; expanding uses and development at the wildland-urban interface; increased risks and costs associated with fire suppression; increased interest in mechanical manipulation, especially in accessible areas; and more stringent air quality regulations.

Comment Process: As noted, the NPS will undertake a conservation planning and environmental impact analysis effort to identify issues and alternatives for fire management on land administered by the Whiskeytown Unit. The FMP scoping phase will build upon preliminary outreach made for public comments on fire management planning conducted during this past winter (2000-2001), as well as relevant information from the General Management Plan (approved in 2000). Public concerns expressed recently with regard to the Whiskeytown Unit's FMP address air quality, the wildland/urban interface zone, public safety, and the ecological role of fire. A summary of public concerns compiled to date is available at the address below. The park seeks to elicit a wide range of comments from organizations, individuals, agencies, Tribes, and other entities to fully inform the preparation of the draft EIS. All scoping comments must be received by September 15, 2001. Periodic updates and other information will be announced via local and regional media, as well as posted on the parks website at www.nps.gov/whis/exp/newslinks.htm.

During the scoping period a public meeting will held to: present information developed to date; to answer questions about the existing FMP, pending update, and planning process; and to solicit and accept comments from the public. This meeting will be held in the Redding area in a public hall. The location, date and time of this meeting will be announced on the above website, and via local and regional media. All interested individuals, organizations, and agencies are invited to attend this meeting or/and provide written comments or suggestions during the scoping period.

All scoping comments should be submitted in writing, and must be postmarked or transmitted not later than September 15, 2001. Please send all comments to: Superintendent, Whiskeytown National Recreation Area, P. O. Box 188, Whiskeytown, CA 96095 (Attn: Fire Management Plan). Electronic comments may be transmitted to whis_planning@nps.gov (in the subject line type: Fire Management Plan Scoping).

If individuals submitting comments request that their name or/and address be withheld from public disclosure, it will be honored to the extent allowable by law. Such requests must be stated prominently in the beginning of the comments. There also may be circumstances wherein the NPS will withhold a respondents identity as allowable by law. As always: NPS will make available to public inspection all submissions from organizations or businesses and from persons identifying themselves as representatives or officials of organizations and businesses; and, anonymous comments may not be considered.

Decision Process: The official responsible for a final decision regarding the Fire Management Plan is the Regional Director, Pacific West Region, National Park Service. The official responsible for implementation is the Superintendent, Whiskeytown-Shasta-Trinity National Recreation Area, Whiskeytown Unit. The draft EIS and fire management plan are expected to be available for public review and comment in the fall of 2001. At this time it is anticipated that the final EIS and fire management plan are to be completed during the winter 2001-spring 2002. Distribution of both the draft and final EIS documents will be duly noticed in the Federal Register, as well as via local and regional media.

Dated: July 13, 2001.
Patricia L. Neubacher,
Acting Regional Director, Pacific West Region.

[FR Doc. 01-19810 Filed 8-7-01; 8:45 am]

BILLING CODE 4310-70-P